DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than December 28, 2018.

Interested persons are invited to submit written comments regarding the subject matter of the investigations to the Director, Office of Trade Adjustment Assistance, at the address shown below, not later than December 28, 2018.

The petitions filed in this case are available for inspection at the Office of the Director, Office of Trade Adjustment Assistance, Employment and Training Administration, U.S. Department of Labor, Room N-5428, 200 Constitution Avenue NW, Washington, DC 20210.

Signed at Washington, DC this 15th day of November 2018.
Hope D. Kinglock,
Certifying Officer, Office of Trade Adjustment Assistance.

Appendix

80 TAA Petitions Instituted Between 10/20/18 and 11/9/18
TA-W | Subject firm (petitioners) | Location | Date of institution | Date of petition
94249 | Allstate (State/One-Stop) | Roanoke, VA | 10/22/18 | 10/18/18
94250 | Bell-Carter Foods Inc. (State/One-Stop) | Corning, CA | 10/22/18 | 10/19/18
94251 | Ernest Industries (State/One-Stop) | Westland, MI | 10/22/18 | 10/19/18
94252 | Faurecia Automotive Seating, Inc. (State/One-Stop) | Auburn Hills, MI | 10/22/18 | 10/19/18
94253 | Hemlock Semiconductor (State/One-Stop) | Hemlock, MI | 10/22/18 | 10/19/18
94254 | McWane also known as AB&I Foundry (State/One-Stop) | Oakland, CA | 10/22/18 | 10/19/18
94255 | Musco Family Olive Company (State/One-Stop) | Tracy, CA | 10/22/18 | 10/19/18
94256 | TRW Automotive US, LLC (State/One-Stop) | Atkins, VA | 10/22/18 | 10/19/18
94257 | AIG Global Testing Services (State/One-Stop) | New York, NY | 10/23/18 | 10/22/18
94258 | Cantech Industries Inc. (Company) | Johnson City, TN | 10/23/18 | 10/22/18
94259 | CashStar (State/One-Stop) | Portland, ME | 10/23/18 | 10/23/18
94260 | CenturyLink (State/One-Stop) | Denver, CO | 10/23/18 | 10/22/18
94261 | Grayson Lumber Corporation (State/One-Stop) | Houston, AL | 10/23/18 | 10/22/18
94262 | Henkel USA Distributors Corporation (State/One-Stop) | Salt Lake City, UT | 10/23/18 | 10/22/18
94263 | J.W. Hulme Co (State/One-Stop) | St Paul, MN | 10/23/18 | 10/22/18
94264 | Johnson Controls International Plc (State/One-Stop) | Alexandria, VA | 10/23/18 | 10/22/18
94265 | Weyerhaeuser NR Company (State/One-Stop) | Millport, AL | 10/23/18 | 10/22/18
94266 | Ossur North America (Workers) | Camarilo, CA | 10/23/18 | 10/22/18
94267 | West Fraser, Inc. (State/One-Stop) | Opelika, AL | 10/23/18 | 10/22/18
94268 | T. R. Miller Mill Company, Inc. (State/One-Stop) | Brewton, AL | 10/23/18 | 10/22/18
94269 | The Westervelt Company (Company) | Moundville, AL | 10/23/18 | 10/22/18
94270 | Medtronic (Company) | Culver City, CA | 10/24/18 | 10/23/18
94271 | Homer Donaldson Company LLC Hodoco (State/One-Stop) | Hudson, MI | 10/24/18 | 10/23/18
94272 | Harman International Industries, Inc. (Company) | Novi, MI | 10/24/18 | 10/12/18
94273 | MBI (State/One-Stop) | Franklin Park, IL | 10/24/18 | 10/23/18
94274 | Canfor (State/One-Stop) | Fulton, AL | 10/25/18 | 10/24/18
94275 | Circor Energy Products Inc. (Company) | Oklahoma City, OK | 10/25/18 | 10/24/18
94276 | Faneuil, Inc. (State/One-Stop) | Vienna, VA | 10/25/18 | 10/24/18
94277 | Phoenix Trim Works (State/One-Stop) | Williamsport, PA | 10/25/18 | 10/24/18
94278 | Forcepoint (State/One-Stop) | Austin, TX | 10/26/18 | 10/25/18
94279 | Harman International Industries, Inc. (Company) | Franklin, KY | 10/26/18 | 10/25/18
94280 | Paysafe Group (Company) | Westlake Village, CA | 10/26/18 | 10/25/18
94281 | Caterpillar (State/One-Stop) | Aurora, IL | 10/29/18 | 10/26/18
94282 | Movement Mortgage (State/One-Stop) | Norfolk, VA | 10/29/18 | 10/26/18
94283 | ULX Partners—LeClairRyan (State/One-Stop) | Glen Allen, VA | 10/29/18 | 10/26/18
94284 | Agfa Corporation (State/One-Stop) | Somerville, NJ | 10/30/18 | 10/29/18
94285 | American Media LLC (State/One-Stop) | Pleasanton, CA | 10/30/18 | 10/29/18
94286 | Boston Herald (State/One-Stop) | Boston, MA | 10/30/18 | 10/29/18
94287 | Seneca Sawmill (State/One-Stop) | Eugene, OR | 10/30/18 | 10/29/18
94288 | Crawford & Company (Company) | Peachtree Corners, GA | 10/31/18 | 10/30/18
94289 | Health Care Service Corporation (HCSC) (State/One-Stop) | Oklahoma City, OK | 10/31/18 | 10/30/18
94290 | Connexions Loyalty Travel Solutions (State/One-Stop) | St. Louis, MO | 11/01/18 | 10/31/18
94291 | Experian (State/One-Stop) | Allen, TX | 11/01/18 | 10/31/18
94292 | FXI, Inc. Baldwyn, MS Plant (Workers) | Baldwyn, MS | 11/01/18 | 10/23/18
94293 | Key Safety Restraint Systems (KSRS) (Company) | Greenville, AL | 11/01/18 | 10/31/18
94294 | MModal Services, Limited (Workers) | Franklin, TN | 11/01/18 | 10/31/18
94295 | Overly Door (Union) | Greenburg, PA | 11/01/18 | 10/31/18
94296 | Westcon Group (State/One-Stop) | Chantilly, VA | 11/01/18 | 10/31/18
94297 | Block Steel (State/One-Stop) | Skokie, IL | 11/02/18 | 11/01/18
94298 | CTDI = Communications Test Design, Inc. (Workers) | Lebanon, TN | 11/02/18 | 11/01/18
94299 | Copland Industries (State/One-Stop) | Burlington, NC | 11/02/18 | 11/01/18
94300 | Ericsson (State/One-Stop) | Plano, TX | 11/02/18 | 11/01/18
94301 | Ericsson (State/One-Stop) | Plano, TX | 11/02/18 | 11/01/18
94302 | Seneca Noti (State/One-Stop) | Noti, OR | 11/02/18 | 10/29/18
94303 | Copland Industries, Inc. (Company) | Burlington, NC | 11/05/18 | 11/02/18
94304 | Copland Fabrics, Inc. (Company) | Burlington, NC | 11/05/18 | 11/02/18
94305 | HG Communications (State/One-Stop) | Laguna Hills, CA | 11/06/18 | 11/05/18
94306 | Stimson Lumber (State/One-Stop) | Clatskanie, OR | 11/06/18 | 11/05/18
94307 | Stimson Lumber (State/One-Stop) | Gaston, OR | 11/06/18 | 11/05/18
94308 | Stimson Lumber (State/One-Stop) | Tillamook, OR | 11/06/18 | 11/05/18
94309 | Tangoe, Inc. (Workers) | Parsippany, NJ | 11/06/18 | 10/30/18
94310 | Varex Imaging (State/One-Stop) | Santa Clara, CA | 11/06/18 | 11/05/18
94311 | Wilbrecht Ledco, Inc. (Company) | St. Paul, MN | 11/06/18 | 11/05/18
94312 | Dormakaba USA (Company) | Lexington, KY | 11/07/18 | 11/07/18
94313 | Insight Global Inc. (State/One-Stop) | San Diego, CA | 11/07/18 | 11/06/18
94314 | Quad Graphics, Inc. (State/One-Stop) | Sidney, NE | 11/07/18 | 11/06/18
94315 | TRIGO-SCSI (Company) | Joliet, IL | 11/07/18 | 11/06/18
94316 | Columbia Forest Products (State/One-Stop) | Boardman, OR | 11/08/18 | 11/07/18
94317 | Harden Furniture LLC (State/One-Stop) | McConnellsville, NY | 11/08/18 | 11/07/18
94318 | Invento Americas (Workers) | Sheboygan, WI | 11/08/18 | 11/07/18
94319 | Nokia, Inc. (State/One-Stop) | Irving, TX | 11/08/18 | 11/07/18
94320 | Rosboro Co. LLC (State/One-Stop) | Springfield, OR | 11/08/18 | 11/07/18
94321 | Siemens Healthineers Inc. (Company) | Hoffman Estates, IL | 11/08/18 | 11/06/18
94322 | Toys R Us (Workers) | Terre Haute, IN | 11/08/18 | 11/08/18
94323 | Virgin Atlantic Airways (State/One-Stop) | Norwalk, CT | 11/08/18 | 11/07/18
94324 | Bak USA (State/One-Stop) | Buffalo, NY | 11/09/18 | 11/08/18
94325 | BJC Healthcare (Workers) | St. Louis, MO | 11/09/18 | 11/08/18
94326 | C Cretors & Co. Cretors-Bismarck, LLC (State/One-Stop) | Bismarck, MO | 11/09/18 | 11/02/18
94327 | Keurig Dr Pepper (State/One-Stop) | Waterbury Center, VT | 11/09/18 | 11/08/18
94328 | Silberline Manufacturing Co., Inc. (Petition indicated Decatur, IN) (Company) | Tamaqua, PA | 11/09/18 | 11/08/18

[FR Doc. 2018-27298 Filed 12-17-18; 8:45 am]

BILLING CODE 4510-FN-P